CONSUMER PRODUCT SAFETY COMMISSION

Sunshine Act Meetings

Federal Register Citation of Previous Announcement: Vol. 75, No. 137, Monday July 19, 2010, page 41820.

Announced Time and Date of Meeting: 10 a.m.-10:30 a.m., Wednesday July 21, 2010.

Changes to Meeting: Meeting postponed.

For a recorded message containing the latest agenda information, call (301) 504-7948.

FOR FURTHER INFORMATION CONTACT: Contact Person for Additional Information: Todd A. Stevenson, Office of the Secretary, 4330 East West Highway, Bethesda, MD 20814 (301) 504-7923.

Dated: July 21, 2010.
.
Todd A. Stevenson,
Secretary.

[FR Doc. 2010-18358 Filed 7-22-10; 4:15 pm]

BILLING CODE 6355-01-P